DEPARTMENT OF JUSTICE

Antitrust Division

Notice Pursuant to the National Cooperative Research and Production Act of 1993—Consortium for Energy, Environment and Demilitarization

Notice is hereby given that, on February 14, 2011, pursuant to Section 6(a) of the National Cooperative Research and Production Act of 1993, 15 U.S.C. 4301 et seq. (“the Act”), Consortium for Energy, Environment and Demilitarization (“CEED”) has filed written notifications simultaneously with the Attorney General and the Federal Trade Commission disclosing (1) the identities of the parties and (2) the nature and objectives of the venture. The notifications were filed for the purpose of extending the Act's provisions limiting the recovery of antitrust plaintiffs to actual damages under specified circumstances.

Pursuant to Section 6(b) of the Act, the identities of the Parties are: Auburn University, Auburn, AL; Camgian Microsystems Corporation, Starkville, MS; Capital Technology Group, Washington, DC; Cheming North America, Chester Township, PA; Consortium for Education, Research and Technology of North Louisiana (CERT), Shreveport, LA; DKJ Technologies, Dayton, OH; E2 Project Management LLC, Rockaway, NJ; El Dorado Engineering Inc., Salt Lake City, UT; Engineering and Management Executives Inc. (EME), Alexandria, VA; Erigo Technologies, LLC, Enfield, NH; EXPLO Systems, Inc., Minden, LA; General Atomics, San Diego, CA; Gradient Technology, Elk River, MN; Group 4 Labs, Fremont, CA; HBM nCode Federal LLC, Starkville, MS; Hoboken Brownstone Company, Hoboken, NJ; IPS Custom Automation, Grand Prairie, TX; Humanistic Robotics, Inc., Bristol, PA; Malocom Pirnie, Inc., Baltimore, MD; Mississippi State University, Starkville, MS; MSE Technology Applications, Butte, MT; National Center for Defense Manufacturing and Machining, Latrobe, PA; Primis Technologies LLC, Washington, DC; Real New Energy, Alexandria, VA; Stella Group, LTD, Washington, DC; Technical Consultants, Inc., Marshall, TX; Textronics, Inc., Wilmington, DE; Tiburon Associates, Inc., Arlington, VA; TPL Inc., Albuquerque, NM; Ultralife Corporation, Newark, NY; University of Rhode Island, Kingston, RI; and UXB International Inc., Blacksburg, VA.

The general area of CEED's planned activity is (a) to enter into a Section 845 Other Transactions Agreement (The OT Agreement) with the U.S. Army (the Government) for the funding of certain research and development to be conducted, in partnership with the Government, the consortium and other Consortium Members, to enhance the capabilities of the U.S. government and its departments and agencies in the fields of energy, environment and demilitarization; (b) participate in establishment of sound technical and programmatic performance goals based on the needs and requirements of the Government's Technology Objectives and create programs and secure funding for the Technology Objectives; (c) provide a unified voice to effectively articulate the strategically important role that renewable energy, the environment and demilitarization technologies play in current and future weapon systems; and (d) maximize the utilization of the Government and member capabilities to effectively develop critical energy, environment and demilitarization technologies that can be transitioned and commercialized.

Additional information concerning the CEED can be obtained from Mr. Darold L. Griffin, Executive Director, CEED, in care of Engineering and Management Executives, Inc., (EME), 101 South Whiting Street, Suite 204, Alexandria, VA 22304-3416, telephone (703) 212-8030, ext. 224, fax (703) 212-8035, e-mail: eme1bmt@aol.com; Mr. Charles McBride, President, CEED, 1140 Connecticut Avenue, NW., Suite 1050, Washington, DC 20036, telephone (202) 466-4210, fax (202) 466-4213, e-mail: mcbride@mcbride.com; Mr. James W. Frankovic, Chief DEMIL and Environmental Technology Division, U.S. Army Research Development and Engineering Center, Picatinny Arsenal, NJ, 07806-5000, telephone (973) 724-6239, fax (973) 724-4308, e-mail: james.w.frankovic@us.army.mil.

Patricia A. Brink,
Director of Civil Enforcement, Antitrust Division.

[FR Doc. 2011-6921 Filed 3-24-11; 8:45 am]

BILLING CODE 4410-11-M